DEPARTMENT OF ENERGY

Federal Energy Regulatory Commission

[Docket No. CP06-76-000]

Algonquin Gas Transmission LLC; Notice of Alternative Project Site Algonquin Ramapo Expansion Project

March 8, 2006.

On January 10, 2006, a Notice of Intent to Prepare a Supplemental Environmental Impact Statement (NOI) was issued by the Federal Energy Regulatory Commission (FERC or Commission) concerning the preparation of a supplemental environmental impact statement (SEIS) that discusses the environmental impacts of Millennium Pipeline L.P.'s (Millennium) proposed Millennium Phase I Project (Phase I Project) which involves design and route changes to the pipeline facilities previously approved as part of the Millennium Pipeline Project and the related projects proposed by other pipeline companies. These related projects are: Columbia Gas Transmission Corporation's (Columbia) Line A-5 Replacement Project (Docket No. CP05-19-000), Empire Pipeline, Inc.'s (Empire) Empire Connector Project (Docket No. CP05-6-000), Algonquin Gas Transmission's (Algonquin) Ramapo Expansion Project (pre-filing Docket No, PF06-5-000 and certificate application filed in Docket No. CP06-76-000 on March 2, 2006), and Iroquois Gas Transmission System, L.P.'s MarketAccess Project (pre-filing Docket No. PF06-6-000). Together, these projects are referred to as the Northeast (NE)-07 Project. A copy of the NOI is attached for your reference (see appendix 1).

Algonquin Gas Transmission LLC (Algonquin) filed information regarding an alternative compressor station (CS) site for the proposed Oxford CS that it may consider as its preferred site. This alternative site is in Oxford, New Haven County, Connecticut. The property is referred to as alternative “Site F, Oxford Tax Identification: Map 24, Block 21, Lot 8” (Woodruff Hill #3). It would be at approximate Algonquin milepost 132.5. It would be about 0.85 mile east of the Oxford Airport runway. It is associated with the planned Woodruff Hill Industrial Park (Industrial Park) site just east of the Oxford Airport in an area that has been designated as “future development”. But, it is not included in the current plans for developing the Industrial Park. A location map for the proposed alternative Oxford CS site is in appendix 2.

Site F occupies a 41-acre parcel that lies mostly within a valley that is bisected by an intermittent stream and some associated wetlands. The site is moderately level and mostly wooded. Algonquin indicates that an approximate 1600-foot-long driveway would be required for permanent access to the site.

This notice announces the opening of the scoping period for the alternative site that will be used to gather environmental information from the public and interested agencies on the NE-07 Project. Please note that the scoping period will close on April 7, 2006. Details on how to submit comments are provided in the Public Participation section of this notice.

This notice is being sent to potentially affected landowners within a half mile of the alternative new compressor station site; Federal, state, and local government agencies; elected officials; environmental and public interest groups; Native American tribes; and local libraries and newspapers.

Some affected landowners may be contacted by a project representative about the acquisition of an easement to construct, operate, and maintain the proposed pipeline. If so, the company should seek to negotiate a mutually acceptable agreement. In the event that the NE-07 Project is certificated by the Commission, that approval conveys the right of eminent domain for securing easements for the pipeline. Therefore, if easement negotiations fail to produce an agreement, the company could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

The EIS Process

NEPA requires the Commission to take into account the environmental impacts that could result from an action whenever it considers the issuance of a Certificate of Public Convenience and Necessity under section 7 of the Natural Gas Act. NEPA also requires us to discover and address concerns the public may have about proposals. This process is referred to as “scoping”. The main goal of the scoping process is to focus the analysis in the SEIS on the important environmental issues. By the NOI, the Commission staff requested public comments on the scope of the issues to address in the EIS. All comments received are considered during the preparation of the SEIS. Landowners receiving this supplemental notice about the alternative compressor station site have been given an opportunity to comment of the project outside the comment period identified in the attached NOI.

Currently Identified Environmental Issues

We have identified several issues that we think deserve attention based on a preliminary review of the proposed alternative facilities and the environmental information provided by the applicants. This preliminary list of issues may be changed based on your comments and our analysis.

• Water Resources.

➢ Impact on water quality.

➢ Impact on wetlands.

• Vegetation and Wildlife.

➢ Impact on forests due to clearing to construct and operate the compressor station and access road.

• Endangered and Threatened Species.

➢ Impact on Indiana bats.

➢ Impact on bog turtles.

• Reliability and Safety.

➢ Assessment of hazards associated with compressor stations.

• Air Quality and Noise.

➢ Temporary impacts from construction of the pipeline on residences.

➢ Impacts of operation of the new compressor stations and compressor station additions.

• Alternatives.

Public Participation

You can make a difference by providing us with your specific comments or concerns about the NE-07 Project. By becoming a commentor, your concerns may be addressed in the SEIS and considered by the Commission. You should focus on the potential environmental effects of the proposal, alternatives to the proposal (including alternative locations and routes), and measures to avoid or lessen environmental impact. The more specific your comments, the more useful they may be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference the docket number of the project about which you are commenting on the original and both copies. For these projects, please reference:—Ramapo Expansion Project—CP06-76-000.

• Mail your comments so that they will be received in Washington, DC on or before April 7, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments, you will need to open a free account which can be created on-line.

Becoming an Intervenor

Please see the attached NOI for the NE-07 Project for this information.

Environmental Mailing List

If you do not want to send comments at this time, but still want to remain on our mailing list, please return the attached Mailing List Retention Form (Appendix 3). If you do not return the form, you will be taken off the mailing list.

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact 1-202-502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-3661 Filed 3-14-06; 8:45 am]

BILLING CODE 6717-01-P